DEPARTMENT OF JUSTICE

Notice of Lodging of Proposed Consent Decree Under the Clean Air Act

On February 28, 2013, the Department of Justice lodged a proposed consent decree with the United States District Court for the Southern District of Indiana in the lawsuit entitled United States, et al. v. Countrymark Refining and Logistics, LLC, Civil Action No. 13-cv-00030-RLY-WGH.

In the Complaint, the United States and the State of Indiana allege that Countrymark Refining and Logistics, LLC (“CountryMark”) violated, at its petroleum refinery in Mt. Vernon, Indiana, various provisions of the Clean Air Act, 42 U.S.C. 7401 et seq.; Ind. Code 13-13-5-1 and 13-13-5-2; the Comprehensive Environmental Response, Compensation and Liability Act, 42 U.S.C. 9609(c) and 9613(b); and the Emergency Planning and Community Right-To-Know Act, 42 U.S.C. 11045(b)(3).

Under the consent decree, CountryMark will implement innovative pollution control technologies to reduce emissions of nitrogen oxides, sulfur dioxide, and particulate matter from refinery process units. CountryMark also agreed to limit the waste gases it sends to its flare through a “cap” on flaring. For waste gases that are flared, CountryMark will operate numerous monitoring systems and comply with several operating parameters to ensure that the flare adequately combusts the gases. In addition, CountryMark will adopt facility-wide enhanced benzene waste monitoring and fugitive emission control programs. Finally, CountryMark will pay a civil penalty of $167,000 to the United States and implement a $70,000 Supplemental Environmental Project to retrofit diesel school buses in the vicinity of the facility. CountryMark already funded a $111,000 State of Indiana project to remove asbestos from a grain elevator in Mt. Vernon, Indiana.

The publication of this notice opens a period of public comment on the consent decree. Comments should be addressed to the Assistant Attorney General, Environment and Natural Resources Division, and should refer to United States, et al. v. Countrymark Refining and Logistics, LLC, D.J. Ref. No. 90-5-2-1-09311. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the consent decree may be examined and downloaded at this Department of Justice Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check in the amount of $59.75 (25 cents per page reproduction cost) payable to the United States Treasury.

Robert D. Brook,
Assistant Section Chief, Environmental Enforcement Section, Environment and Natural Resources Division.

[FR Doc. 2013-05113 Filed 3-5-13; 8:45 am]

BILLING CODE 4410-15-P